DEPARTMENT OF ENERGY

Federal Energy Regulatory Commission

[Docket No. RP95-408-057]

Columbia Gas Transmission Corporation; Notice of Compliance Filing

June 4, 2004.

Take notice that on May 10, 2004, Columbia Gas Transmission Corporation (Columbia) filed to report on the sharing with its customers of a portion of the profits from the sale of certain base gas as provided in Columbia's Docket No. RP95-408 rate case settlement. See Stipulation II, Article IV, Sections A through E, in Docket No. RP95-408 approved at Columbia Gas Transmission Corp., 79 FERC ¶ 61,044 (1997).

Columbia states that copies of its filing have been mailed to all firm customers, State commissions, and parties on the official service list in this proceeding.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gove or toll-free at (866) 208-3676, or TTY, contact (202) 502-8659. The Commission strongly encourages electronic filings. See 18 CFR 385.2001(a)(1)(iii) and the instructions on the Commission's Web site under the eFiling link.

Protest Date: June 11, 2004.

Linda Mitry,
Acting Secretary.

[FR Doc. E4-1332 Filed 6-9-04; 8:45 am]

BILLING CODE 6717-01-P